DEPARTMENT OF COMMERCE

National Oceanic and Atmospheric Administration

50 CFR Part 648

[Docket No. 201209-0332]

RTID 0648-XB525

Fisheries of the Northeastern United States; Atlantic Bluefish Fishery; Quota Transfers from NJ to RI and MD to NC

AGENCY: National Marine Fisheries Service (NMFS), National Oceanic and Atmospheric Administration (NOAA), Commerce.

ACTION: Notification; quota transfers.

SUMMARY: NMFS announces that the states of New Jersey and Maryland are transferring a portion of their 2021 commercial bluefish quota to the States of Rhode Island and North Carolina, respectively. These quota adjustments are necessary to comply with the Atlantic Bluefish Fishery Management Plan quota transfer provisions. This announcement informs the public of the revised commercial bluefish quotas for New Jersey, Rhode Island, Maryland, and North Carolina.

DATES: Effective October 21, 2021, through December 31, 2021.

FOR FURTHER INFORMATION CONTACT: Laura Hansen, Fishery Management Specialist, (978) 281-9225.

SUPPLEMENTARY INFORMATION: Regulations governing the Atlantic bluefish fishery are found in 50 CFR 648.160 through 648.167. These regulations require annual specification of a commercial quota that is apportioned among the coastal states from Maine through Florida. The process to set the annual commercial quota and the percent allocated to each state is described in § 648.162, and the final 2021 allocations were published on December 16, 2020 (85 FR 81421).

The final rule implementing Amendment 1 to the Bluefish Fishery Management Plan (FMP) published in the Federal Register on July 26, 2000 (65 FR 45844), and provided a mechanism for transferring bluefish quota from one state to another. Two or more states, under mutual agreement and with the concurrence of the NMFS Greater Atlantic Regional Administrator, can request approval to transfer or combine bluefish commercial quota under § 648.162(e)(1)(i) through (iii). The Regional Administrator must approve any such transfer based on the criteria in § 648.162(e). In evaluating requests to transfer a quota or combine quotas, the Regional Administrator shall consider whether: The transfer or combinations would preclude the overall annual quota from being fully harvested; the transfer addresses an unforeseen variation or contingency in the fishery; and the transfer is consistent with the objectives of the FMP and the Magnuson-Stevens Act.

New Jersey is transferring 30,000 lb (13,608 kg) to Rhode Island, and Maryland is transferring 30,000 lb (13,608 kg) to North Carolina through mutual agreement of the states. These transfers were requested to ensure that Rhode Island and North Carolina would not exceed their 2021 state quota. The revised bluefish quotas for 2021 are: New Jersey, 290,082 lb (131,579 kg); Rhode Island, 253,434 lb (114,955 kg); Maryland 53,084 lb (24,078 kg); and, North Carolina, 957,377 lb (434,259 kg).

Classification

NMFS issues this action pursuant to section 305(d) of the Magnuson-Stevens Act. This action is required by 50 CFR 648.162(e)(1)(i) through (iii), which was issued pursuant to section 304(b), and is exempted from review under Executive Order 12866.

Authority: 16 U.S.C. 1801 et seq.

Dated: October 19, 2021.
Jennifer M. Wallace,
Acting Director, Office of Sustainable Fisheries, National Marine Fisheries Service.

[FR Doc. 2021-23054 Filed 10-21-21; 8:45 am]

BILLING CODE 3510-22-P